DEPARTMENT OF TRANSPORTATION

Federal Aviation Administration

14 CFR Part 39

[Docket No. FAA-2021-0444; Project Identifier MCAI-2020-01601-T; Amendment 39-21904; AD 2022-02-07]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by reports of wear damage found between the bonding clamps and the fuel feed tubes inside the left- and right-hand fuel tanks. This AD requires repetitive inspections of the fuel feed tubes for damage, replacement if necessary, and modification of the fuel feed line installation inside the left- and right-hand fuel tanks, which would terminate the repetitive inspections, as specified in a Transport Canada Civil Aviation (TCCA) AD, which is incorporated by reference. The FAA is issuing this AD to address the unsafe condition on these products.

DATES: This AD is effective March 15, 2022.

The Director of the Federal Register approved the incorporation by reference of a certain publication listed in this AD as of March 15, 2022.

ADDRESSES: For material incorporated by reference (IBR) in this AD, contact TCCA, Transport Canada National Aircraft Certification, 159 Cleopatra Drive, Nepean, Ontario, K1A 0N5, Canada; telephone 888-663-3639; email AD-CN@tc.gc.ca; internet https://tc.canada.ca/en/aviation. You may view this IBR material at the FAA, Airworthiness Products Section, Operational Safety Branch, 2200 South 216th St., Des Moines, WA. For information on the availability of this material at the FAA, call 206-231-3195. It is also available in the AD docket at https://www.regulations.gov by searching for and locating Docket No. FAA-2021-0444.

Examining the AD Docket

You may examine the AD docket at https://www.regulations.gov by searching for and locating Docket No. FAA-2021-0444; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Joseph Catanzaro, Aviation Safety Engineer, Airframe & Propulsion Section, FAA, New York ACO Branch, 1600 Stewart Avenue, Suite 410, Westbury, NY 11590; telephone 516-228-7366; fax 516-794-5531; email 9-avs-nyaco-cos@faa.gov.

SUPPLEMENTARY INFORMATION:

Background

TCCA, which is the aviation authority for Canada, has issued TCCA AD CF-2019-19R1, issued November 1, 2019 (TCCA AD CF-2019-19R1) (also referred to as the Mandatory Continuing Airworthiness Information, or the MCAI), to correct an unsafe condition for certain Airbus Canada Limited Partnership Model BD-500-1A10 and BD-500-1A11 airplanes.

The FAA issued a notice of proposed rulemaking (NPRM) to amend 14 CFR part 39 by adding an AD that would apply to certain Airbus Canada Limited Partnership Model BD-500-1A10 and BD-500-1A11 airplanes. The NPRM published in the Federal Register on May 28, 2021 (86 FR 28719). The NPRM was prompted by reports of wear damage found between the bonding clamps and the fuel feed tubes inside the left- and right-hand fuel tanks. The NPRM proposed to require repetitive inspections of the fuel feed tubes for damage, replacement if necessary, and modification of the fuel feed line installation inside the left- and right-hand fuel tanks, which would terminate the repetitive inspections, as specified in TCCA AD CF-2019-19R1.

The FAA is issuing this AD to address failure of certain fuel feed tubes, which could lead to a severe fuel imbalance or fuel starvation of one engine, or in the event of the failure of multiple fuel tubes feeding both engines, could result in an in-flight shutdown of both engines. See the MCAI for additional background information.

Discussion of Final Airworthiness Directive

Comments

The FAA received a comment from the Air Line Pilots Association, International (ALPA) who supported the NPRM without change.

The FAA received an additional comment from Delta Air Lines (DAL). The following presents the comment received on the NPRM and the FAA's response.

Request for an Optional Method of Compliance

DAL asked that the FAA add an optional method of compliance to the proposed AD. DAL recommended an additional exception be added in paragraph (h)(5) of the proposed AD to specify that: “It is acceptable to accomplish Airbus Canada Limited Partnership Service Bulletin BD500-282004, Issue No. 001, dated August 30, 2019, concurrently with Airbus Canada Limited Partnership Service Bulletin BD500-282005, Issue No. 001, dated August 30, 2019, as terminating action for Part I and Part II of TCCA AD CF-2019-19R1.” DAL stated that Airbus Canada Limited Partnership Service Bulletin BD500-282005 (which is not required by the proposed AD) also modifies the fuel feed system. DAL noted that doing the service bulletins concurrently would require reordering and eliminating steps from the service information. DAL stated that these changes would not alter the final configuration of Airbus Canada Limited Partnership Service Bulletin BD500-282004, Issue No. 001, dated August 30, 2019. DAL noted the changes simply allow these modifications to be done concurrently. DAL concluded that both service bulletins are FAA approved.

The FAA disagrees with the commenter's request. An operator may always do additional work while performing tasks required by an AD without the need for an exemption or an alternate method of compliance (AMOC), as long as those tasks do not impact compliance with the AD. However, in this case, DAL is proposing to reorder or eliminate certain steps in the required service information. Although DAL provided some information, it did not provide sufficient data to allow the FAA to conclusively determine that the proposed changes would provide an acceptable level of safety. In addition, the FAA does not consider it appropriate to include provisions in an AD applicable only to a single operator's unique use of required service information. However, under the provisions of paragraph (j)(1) of this AD, the FAA will consider requests for an AMOC. Therefore, the FAA has not changed this AD in this regard.

Conclusion

The FAA reviewed the relevant data, considered the comments received, and determined that air safety requires adopting this AD as proposed. Except for minor editorial changes, this AD is adopted as proposed in the NPRM. None of the changes will increase the economic burden on any operator. Accordingly, the FAA is issuing this AD to address the unsafe condition on these products.

Related Service Information Under 1 CFR Part 51

TCCA AD CF-2019-19R1 describes procedures for repetitive inspections of the fuel feed tubes for damage, replacement if any damage is found, and modification of the fuel feed line installation inside the left- and right-hand fuel tanks, which would terminate the repetitive inspections.

This material is reasonably available because the interested parties have access to it through their normal course of business or by the means identified in the ADDRESSES section.

Interim Action

The FAA considers this AD interim action. If final action is later identified, the FAA might consider further rulemaking then.

Costs of Compliance

The FAA estimates that this AD affects 46 airplanes of U.S. registry. The FAA estimates the following costs to comply with this AD:

Estimated Costs for Required Actions
Labor cost | Parts cost | Cost per product | Cost on U.S. operators
Up to 91 work-hours × $85 per hour = Up to $7,735 | Up to $15,265 | Up to $23,000 | Up to $1,058,000.

The FAA estimates the following costs to do any necessary on-condition actions that would be required based on the results of any required actions. The FAA has no way of determining the number of aircraft that might need these on-condition actions:

Estimated Costs of On-Condition Actions
Labor cost | Parts cost | Cost per product
3 work-hours × $85 per hour = $255 | Up to $77,000 | Up to $77,255.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-02-07 Airbus Canada Limited Partnership (Type Certificate Previously Held by C Series Aircraft Limited Partnership (CSALP); Bombardier, Inc.): Amendment 39-21904; Docket No. FAA-2021-0444; Project Identifier MCAI-2020-01601-T.

(a) Effective Date

This airworthiness directive (AD) is effective March 15, 2022.

(b) Affected ADs

None.

(c) Applicability

This AD applies to Airbus Canada Limited Partnership (type certificate previously held by C Series Aircraft Limited Partnership (CSALP); Bombardier, Inc.) Model BD-500-1A10 and BD-500-1A11 airplanes, certificated in any category, as identified in Transport Canada Civil Aviation (TCCA) AD CF-2019-19R1, issued November 1, 2019 (TCCA AD CF-2019-19R1).

(d) Subject

Air Transport Association (ATA) of America Code 28, Fuel.

(e) Reason

This AD was prompted by reports of wear damage found between the bonding clamps and the fuel feed tubes inside the left- and right-hand fuel tanks. In one incident, the wear damage resulted in a hole in the main engine fuel feed tube located in the collector tank, and subsequent fuel imbalance during flight. The FAA is issuing this AD to address failure of certain fuel feed tubes, which could lead to a severe fuel imbalance or fuel starvation of one engine, or in the event of the failure of multiple fuel tubes feeding both engines, could result in an in-flight shutdown of both engines.

(f) Compliance

Comply with this AD within the compliance times specified, unless already done.

(g) Requirements

Except as specified in paragraph (h) of this AD: Comply with all required actions and compliance times specified in, and in accordance with, TCCA AD CF-2019-19R1.

(h) Exceptions to TCCA AD CF-2019-19R1

(1) Where TCCA AD CF-2019-19R1 refers to the effective date of TCCA AD CF-2019-19 (May 27, 2019), this AD requires using the effective date of this AD.

(2) Where TCCA AD CF-2019-19R1 refers to its effective date, this AD requires using the effective date of this AD.

(3) Where TCCA AD CF-2019-19R1 refers to hours air time, this AD requires using flight hours.

(4) Where TCCA AD CF-2019-19R1 specifies rectifying “any noted discrepancy,” for this AD discrepancies are “damage, cracks, scores, scratches, nicks, and gouges.”

(i) No Reporting Requirement

Although the service information referenced in TCCA AD CF-2019-19R1 specifies to submit certain information to the manufacturer, this AD does not include that requirement.

(j) Additional AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; phone: 516-228-7300; fax: 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or TCCA; or Airbus Canada Limited Partnership's TCCA Design Approval Organization (DAO). If approved by the DAO, the approval must include the DAO-authorized signature.

(k) Related Information

For more information about this AD, contact Joseph Catanzaro, Aviation Safety Engineer, Airframe & Propulsion Section, FAA, New York ACO Branch, 1600 Stewart Avenue, Suite 410, Westbury, NY 11590; telephone 516-228-7366; fax 516-794-5531; email 9-avs-nyaco-cos@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada Civil Aviation (TCCA) AD CF-2019-19R1, issued November 1, 2019.

(ii) [Reserved]

(3) For TCCA AD CF-2019-19R1, contact TCCA, Transport Canada National Aircraft Certification, 159 Cleopatra Drive, Nepean, Ontario K1A 0N5, Canada; telephone 888-663-3639; email AD-CN@tc.gc.ca; internet https://tc.canada.ca/en/aviation.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on January 7, 2022.
Lance T. Gant,
Director, Compliance & Airworthiness Division, Aircraft Certification Service.

[FR Doc. 2022-02546 Filed 2-7-22; 8:45 am]

BILLING CODE 4910-13-P